DEPARTMENT OF AGRICULTURE

Animal and Plant Health Inspection Service

[Docket No. 00-113-1]

Public Meeting; Veterinary Biologics

AGENCY: Animal and Plant Health Inspection Service, USDA.

ACTION: Advance notice of public meeting and request for suggested agenda topics.

SUMMARY: We are issuing this notice to inform producers and users of veterinary biological products, and other interested individuals, that we will be holding our tenth annual public meeting to discuss regulatory and policy issues related to the manufacture, distribution, and use of veterinary biological products. We are in the process of planning the meeting agenda and are requesting suggestions for topics of general interest to producers and other interested individuals.

DATES: The public meeting will be held on Tuesday and Wednesday, April 10 and 11, 2001, from 8 a.m. to approximately 5 p.m. each day.

ADDRESSES: The public meeting will be held in the Scheman Building at the Iowa State Center, Iowa State University, Ames, IA.

FOR FURTHER INFORMATION CONTACT: For further information on agenda topics, contact Dr. Richard E. Hill, Jr., Director, Center for Veterinary Biologics, Veterinary Services, APHIS, 510 South 17th Street, Suite 104, Ames, IA 50010-8197; phone (515) 232-5785, fax (515) 232-7120, or e-mail CVB@usda.gov. For registration information, contact Ms. Kathy Clark at the same address and fax number; phone (515) 232-5785 extension 128; or e-mail Kathryn.K.Clark@usda.gov.

SUPPLEMENTARY INFORMATION: Since 1989, the Animal and Plant Health Inspection Service (APHIS) has held nine public meetings in Ames, IA, on veterinary biologics. The meetings provide an opportunity for the exchange of information between APHIS representatives, producers and users of veterinary biological products, and other interested individuals. APHIS is in the process of planning the agenda for the tenth annual meeting, which will be held on April 10 and 11, 2001.

The agenda for the meeting is not yet complete. Topics that have been suggested include: (1) Labeling; (2) duration of immunity/efficacy; (3) delivery systems; (4) risk assessment; (5) target animal safety; (6) animal care; and (7) international harmonization. Before finalizing the agenda, APHIS is seeking suggestions for additional meeting topics from the interested public.

We would also like to invite interested individuals to use this meeting to present their ideas and suggestions concerning the licensing, manufacturing, testing, and distribution of veterinary biologics.

Please submit suggested meeting topics (for both breakout and general sessions) and proposed presentation titles to the person listed under FOR FURTHER INFORMATION CONTACT on or before December 15, 2000. For proposed presentations, please include the name(s) of the presenter(s) and the approximate amount of time that will be needed for each presentation.

After the agenda is finalized, APHIS will announce the schedule in the Federal Register.

Done in Washington, DC, this 14th day of November 2000.
Bobby R. Acord,
Acting Administrator, Animal and Plant Health Inspection Service.

[FR Doc. 00-29614 Filed 11-17-00; 8:45 am]

BILLING CODE 3410-34-U